DEPARTMENT OF COMMERCE

International Trade Administration

[A-533-502]

Welded Carbon Steel Standard Pipes and Tubes From India: Final Results of Antidumping Duty Administrative Review; 2018-2019

AGENCY: Enforcement and Compliance, International Trade Administration, Department of Commerce.

SUMMARY: The Department of Commerce (Commerce) determines that the sole producer and/or exporter subject to this administrative review, made sales of subject merchandise in the United States at less than normal value during the period of review (POR), May 1, 2018, through April 30, 2019.

DATES: Applicable March 19, 2021.

FOR FURTHER INFORMATION CONTACT: Dmitry Vladimirov, AD/CVD Operations, Office I, Enforcement and Compliance, International Trade Administration, U.S. Department of Commerce, 1401 Constitution Avenue NW, Washington, DC 20230; telephone: (202) 482-0665.

SUPPLEMENTARY INFORMATION:

Background

On July 24, 2020, Commerce published the Preliminary Results of the 2018-2019 administrative review of the antidumping duty order on welded carbon steel standard pipes and tubes (pipe and tube) from India.¹ The administrative review covers a sole producer and/or exporter of the subject merchandise, Garg Tube Export LLP and its affiliate, Garg Tube Limited (collectively, Garg Tube), constituting a single entity.² We invited interested parties to comment on the Preliminary Results and received case and rebuttal briefs.³ On January 7, 2021, Commerce extended the deadline for the final results by 60 days to March 18, 2021.⁴ Commerce conducted this review in accordance with section 751(a)(1)(B) of the Tariff Act of 1930, as amended (the Act).

¹ See Welded Carbon Steel Standard Pipes and Tubes from India: Preliminary Results of Antidumping Duty Administrative Review; 2018-2019, 85 FR 44860 (July 24, 2020) (Preliminary Results), and accompanying Preliminary Decision Memorandum (PDM).

² See Welded Carbon Steel Standard Pipes and Tubes from India: Preliminary Results of Antidumping Duty Administrative Review; 2017-2018, 84 FR 33916 (July 16, 2019), and accompanying Preliminary Decision Memorandum at 7-8, unchanged in Welded Carbon Steel Standard Pipes and Tubes from India: Final Results of Antidumping Duty Administrative Review; 2017-2018, 85 FR 2715 (January 16, 2020) (where we determined to collapse and consider these two companies as one entity).

³ The domestic interested party (DIP) is Nucor Tubular Products Inc. See DIP's Letter, “Certain Welded Carbon Steel Standard Pipes and Tubes from India: Case Brief and Request to Participate in Hearing,” dated December 7, 2020; and Garg Tube's Letter, “Antidumping Duty Review of Certain Welded Carbon Steel Standard Pipes and Tubes from India: Garg Tube's Case Brief,” dated December 7, 2020; see also DIP's Letter, “Certain Welded Carbon Steel Standard Pipes and Tubes from India: Rebuttal Brief,” dated December 14, 2020; and Garg Tube's Letter, “Antidumping Duty Administrative Review of Certain Welded Carbon Steel Standard Pipes and Tubes from India (2018-2019): Garg Tube's Rebuttal Brief,” dated December 14, 2020.

⁴ See Memorandum, “Welded Carbon Steel Standard Pipes and Tubes from India: Extension of Deadline for Final Results of Antidumping Duty Administrative Review,” dated January 7, 2021.

Scope of the Order

The merchandise subject to the order is pipe and tube. The pipe and tube subject to the order is currently classifiable under subheadings: 7306.30.1000, 7306.30.5025, 7306.30.5032, 7306.30.5040, 7306.30.5055, 7306.30.5085, 7306.30.5090 of the Harmonized Tariff Schedule of the United States (HTSUS). While the HTSUS subheadings are provided for convenience and customs purposes, the written description is dispositive. A full description of the scope of the order is contained in the Issues and Decision Memorandum.⁵

⁵ See Memorandum, “Welded Carbon Steel Standard Pipes and Tubes from India: Issues and Decision Memorandum for the Final Results of Antidumping Duty Administrative Review; 2018-2019,” dated concurrently with, and hereby adopted by this notice (Issues and Decision Memorandum).

Analysis of Comments Received

All issues raised by parties in the case and rebuttal briefs are addressed in the Issues and Decision Memorandum. A list of the issues addressed in the Issues and Decision Memorandum is in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/.

Changes Since the Preliminary Results

Based on the comments received, we made changes for these final results which are explained in the Issues and Decision Memorandum.

Final Results of the Administrative Review

We determine that the following weighted-average dumping margin exists for the period May 1, 2018, through April 30, 2019.

Producer or exporter | Weighted- average dumping margin (percent)
Garg Tube Export LLP and Garg Tube Limited | 13.90

Disclosure

We intend to disclose the calculations performed in connection with these final results to parties in this proceeding within five days after public announcement of the final results, in accordance with 19 CFR 351.224(b).

Assessment Rates

Pursuant to section 751(a)(2)(A) of the Act and 19 CFR 351.212(b)(1), Commerce will determine, and U.S. Customs and Border Protection (CBP) shall assess, antidumping duties on all appropriate entries of subject merchandise in accordance with the final results of this review. For Garg Tube, we calculated importer-specific assessment rates on the basis of the ratio of the total amount of dumping calculated for each importer's examined sales and the total entered value of those sales in accordance with 19 CFR 351.212(b)(1).⁶ Where an importer-specific assessment rate is de minimis (i.e., less than 0.5 percent), the entries by that importer will be liquidated without reference to antidumping duties. For entries of subject merchandise during the POR produced by Garg Tube for which it did not know the merchandise was destined for the United States, we will instruct CBP to liquidate unreviewed entries at the all-others rate if there is no rate for the intermediate company(ies) involved in the transaction.⁷

⁶ In these final results, Commerce applied the assessment rate calculation method adopted in Antidumping Proceedings: Calculation of the Weighted-Average Dumping Margin and Assessment Rate in Certain Antidumping Duty Proceedings; Final Modification, 77 FR 8101 (February 14, 2012).

⁷ See Antidumping and Countervailing Duty Proceedings: Assessment of Antidumping Duties, 68 FR 23954 (May 6, 2003).

Consistent with its recent notice,⁸ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

⁸ See Notice of Discontinuation of Policy to Issue Liquidation Instructions After 15 Days in Applicable Antidumping and Countervailing Duty Administrative Proceedings, 86 FR 3995 (January 15, 2021).

Cash Deposit Requirements

The following cash deposit requirements will be effective upon publication in the Federal Register of this notice for all shipments of pipe and tube from India entered, or withdrawn from warehouse, for consumption on or after the date of publication as provided by section 751(a)(2) of the Act: (1) The cash deposit rate for Garg Tube will be equal to the weighted-average dumping margin established in the final results of the review; (2) for merchandise exported by producers or exporters not covered in this review but covered in a prior completed segment of the proceeding, the cash deposit rate will continue to be the company-specific rate published in the completed segment for the most recent period; (3) if the exporter is not a firm covered in this review, a prior review, or the original investigation but the producer has been covered in a priorcompleted segment of this proceeding, then the cash deposit rate will be the rate established in the completed segment for the most recent period for the producer of the merchandise; (4) the cash deposit rate for all other producers or exporters will continue to be 7.08 percent, the all-others rate established in the less-than-fair-value investigation for this proceeding.⁹ These cash deposit requirements, when imposed, shall remain in effect until further notice.

⁹ See Antidumping Duty Order; Certain Welded Carbon Steel Standard Pipes and Tubes from India, 51 FR 17384 (May 12, 1986).

Notification to Importers

This notice serves as a final reminder to importers of their responsibility under 19 CFR 351.402(f)(2) to file a certificate regarding the reimbursement of antidumping duties prior to liquidation of the relevant entries during this POR. Failure to comply with this requirement could result in the Secretary's presumption that reimbursement of antidumping duties occurred and the subsequent assessment of double antidumping duties.

Notification Regarding Administrative Protective Orders

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation subject to sanction.

Notification to Interested Parties

We are issuing and publishing these results of administrative review in accordance with sections 751(a) and 777(i) of the Act and 19 CFR 351.221(b)(5).

Dated: March 15, 2020.
Christian Marsh,
Acting Assistant Secretary for Enforcement and Compliance.

Appendix

List of Topics Discussed in the Issues and Decision Memorandum

I. Summary

II. Background

III. Scope of the Order

IV. Changes Since the Preliminary Results

V. Discussion of the Issues

Comment 1: Particular Market Situation and Quantifying an Adjustment

Comment 2: Partial Adverse Facts Available for Non-Cooperative Unaffiliated Suppliers' Costs

VI. Recommendation

[FR Doc. 2021-05740 Filed 3-18-21; 8:45 am]

BILLING CODE 3510-DS-P